DEPARTMENT OF COMMERCE

International Trade Administration

[C-533-825]

Polyethylene Terephthalate (PET) Film, Sheet, and Strip From India: Final Results of the Expedited Second Sunset Review of the Countervailing Duty Order

AGENCY: Import Administration, International Trade Administration, Department of Commerce.

DATES: Effective Date: August 5, 2013.

SUMMARY: On April 2, 2013, the Department of Commerce (“Department”) initiated the second sunset review of the countervailing duty order on polyethylene terephthalate (PET) film, sheet, and strip (“PET film”) from India. The Department finds that revocation of this countervailing duty order (CVD”) would be likely to lead to the continuation or recurrence of net countervailable subsidies at the rates in the “Final Results of Review” section of this notice.

FOR FURTHER INFORMATION CONTACT: Sean Carey or Dana Mermelstein, AD/CVD Operations, Office 6, Import Administration, International Trade Administration, U.S. Department of Commerce, 14th Street and Constitution Avenue NW., Washington, DC 20230; telephone (202) 482-3964 or 482-1391, respectively.

SUPPLEMENTARY INFORMATION:

Background

The CVD order on PET film from India was published on July 1, 2002. See Notice of Countervailing Duty Order: Polyethylene Terephthalate Film, Sheet, and Strip From India, 67 FR 44179 (July 1, 2002). On April 2, 2012, the Department initiated the second sunset review of the order, pursuant to section 751(c) of the Tariff Act of 1930, as amended (the Act). See Initiation of Five-Year (“Sunset”) Reviews, 78 FR 19647 (April 2, 2013). The Department received notices of intent to participate from DuPont Teijin Films, Mitsubishi Polyester Film, Inc., and SKC, Inc. (collectively, “domestic interested parties”) within the deadline specified in 19 CFR 351.218(d)(1)(i). The Department received an adequate substantive response to the notice of initiation from the domestic interested parties within the 30-day deadline specified in 19 CFR 351.218(d)(3)(i). The Department received no substantive responses from the Government of India (“GOI”) and respondent interested parties.

The regulations provide, at 19 CFR 351.218 (e)(1)(ii)(A), that the Department will normally conclude that respondent interested parties have provided adequate response to a notice of initiation where it receives complete substantive responses from respondent interested parties accounting on average for more than 50 percent, on a volume basis (or a value basis, if appropriate), of the total exports of the subject merchandise to the United States over the five calendar years preceding the year of publication of the notice of initiation. Moreover, in a sunset review of a CVD order, the Department will normally conduct a full review only if it receives adequate responses from domestic and respondent interested parties and a complete substantive response from the foreign government. See 19 CFR 351.218(e)(2) and 351.218(e)(1)(ii)(B) and (C). Because the Department received no responses from the GOI and respondent interested parties, the Department is conducting an expedited (120-day) sunset review of the CVD order on PET film from India pursuant to 19 CFR 351.218(e)(1)(ii)(C)(2).

Scope of the Order

The products covered by the order are all gauges of raw, pretreated, or primed PET film, whether extruded or coextruded. Excluded are metalized films and other finished films that have had at least one of their surfaces modified by the application of a performance-enhancing resinous or inorganic layer of more than 0.00001 inches thick. Imports of PET film are classifiable in the Harmonized Tariff Schedule of the United States (“HTSUS”) under item number 3920.62.00.90. Effective July 1, 2003, the HTSUS subheading 3920.62.00.00 was divided into 3920.62.00.10 (metallized PET film) and 3920.62.00.90 (non-metallized PET film). Although the HTSUS numbers are provided for convenience and customs purposes, the written product description remains dispositive.

Analysis of Comments Received

All issues raised in this review are addressed in the Issues and Decision Memorandum (“Decision Memorandum”) from Christian Marsh, Deputy Assistant Secretary for Antidumping and Countervailing Duty Operations, to Paul Piquado, Assistant Secretary for Import Administration, dated concurrently with this notice, which is hereby adopted by this notice. The issues discussed in the Decision Memorandum include the likelihood of continuation or recurrence of a countervailable subsidy and the net countervailable subsidy likely to prevail if the order was revoked. Parties can find a complete discussion of all issues raised in this review and the corresponding recommendations in this public memorandum, which is on file electronically via Import Administration's Antidumping and Countervailing Duty Centralized Electronic Service System (“IA ACCESS”). IA ACCESS is available to registered users at http://iaaccess.trade.gov and in the Central Records Unit in room 7046 of the main Commerce building. In addition, a complete version of the Decision Memorandum can be accessed directly on the Internet at http://ia.ita.doc.gov/ia/. The signed Decision Memorandum and electronic versions of the Decision Memorandum are identical in content.

Final Results of Review

Pursuant to sections 752(b)(1) and (3) of the Act, the Department determines that revocation of the CVD order on PET film from India would be likely to lead to continuation or recurrence of countervailable subsidies at the following net countervailable subsidy rates:

Manufacturers/exporters/producers | Net countervailable subsidy (percent)
Ester Industries Ltd | 27.37% ad valorem
Garware Polyester Ltd | 33.42% ad valorem
Polyplex Corporation Ltd | 22.69% ad valorem
All others | 29.34% ad valorem

This notice also serves as the only reminder to parties subject to administrative protective order (“APO”) of their responsibility concerning the return or destruction of proprietary information disclosed under APO in accordance with 19 CFR 351.305. Timely notification of the return or destruction of APO materials or conversion to judicial protective orders is hereby requested. Failure to comply with the regulations and terms of an APO is a violation which is subject to sanction.

The Department is issuing and publishing these final results and this notice in accordance with sections 751(c), 752(b), and 777(i)(1) of the Act.

Dated: July 30, 2013.
Paul Piquado,
Assistant Secretary for Import Administration.

[FR Doc. 2013-18834 Filed 8-2-13; 8:45 am]

BILLING CODE 3510-DS-P